DEPARTMENT OF HOMELAND SECURITY

Coast Guard

33 CFR Part 117

[Docket No. USCG-2008-0485]

Drawbridge Operation Regulations; Hackensack River, Jersey City, NJ, Maintenance

AGENCY: Coast Guard, DHS.

ACTION: Notice of temporary deviation from regulations.

SUMMARY: The Commander, First Coast Guard District, has issued a temporary deviation from the regulation governing the operation of the NJTRO Lower Hack Bridge across the Hackensack River, mile 3.4, at Jersey City, New Jersey. Under this temporary deviation, the NJTRO Lower Hack Bridge may remain in the closed position for ten hours on two weekend days to facilitate scheduled bridge maintenance. Vessels that can pass under the draw without a bridge opening may do so at all times and vessels that need a bridge opening can do so by providing a two-hour advance notice. This deviation is necessary to facilitate upgrades to the control system at the bridge.

DATES: This deviation is effective from 7 a.m. through 5 p.m. on June 21, 2008 and June 22, 2008, and in case of rain, from 7 a.m. through 5 p.m. on June 28, 2008 and June 29, 2008.

ADDRESSES: Documents indicated in this preamble as being available in the docket are part of docket USCG-2008-0485 and are available online at http://www.regulations.gov. They are also available for inspection or copying at two locations: The Docket Management Facility (M-30), U.S. Department of Transportation, West Building Ground Floor, Room W12-140, 1200 New Jersey Avenue, SE., Washington, DC 20590, between 9 a.m. and 5 p.m., Monday through Friday, except Federal holidays, and the First Coast Guard District, Bridge Branch Office, 408 Atlantic Avenue, Boston, Massachusetts 02110, between 7 a.m. and 3 p.m., Monday through Friday, except Federal holidays.

FOR FURTHER INFORMATION CONTACT: Gary Kassof, Project Officer, First Coast Guard District, at (212) 668-7165.

SUPPLEMENTARY INFORMATION: The NJTRO Lower Hack Bridge, across the Hackensack River, mile 3.4, at Jersey City, New Jersey, has a vertical clearance in the closed position of 40 feet at mean high water and 45 feet at mean low water. The existing drawbridge operation regulations are listed at 33 CFR 117.723(b).

The bridge owner, New Jersey Transit Rail Operations (NJTRO), requested a temporary deviation to facilitate scheduled maintenance, upgrades to the control system at the bridge.

The waterway has seasonal recreational vessels, and commercial vessels of various sizes. All known waterway users were advised of the requested bridge closure period and offered no objection.

Under this temporary deviation the bridge may remain closed from 7 a.m. through 5 p.m. on June 21, 2008 and June 22, 2008, with a rain date of June 28, 2008 and June 29, 2008. Vessels able to pass under the closed draw may do so at any time and vessels that must have a bridge opening may do so by providing a two-hour advance notice by calling the bridge on VHF channels 13 or 16.

In accordance with 33 CFR 117.35(e), the bridge must return to its regular operating schedule immediately at the end of the designated time period. This deviation from the operating regulations is authorized under 33 CFR 117.35.

Dated: June 11, 2008.
Gary Kassof,
Bridge Program Manager, First Coast Guard District.

[FR Doc. E8-13860 Filed 6-18-08; 8:45 am]

BILLING CODE 4910-15-P